FEDERAL COMMUNICATIONS COMMISSION

Public Information Collection Approved by Office of Management and Budget

AGENCY: Federal Communications Commission.

ACTION: Notice.

SUMMARY: The Federal Communications Commission (FCC) has received Office of Management and Budget (OMB) approval for the following public information collection pursuant to the Paperwork Reduction Act of 1995, Pub. L. 104-13.

DATES: Written comments should be submitted on or before September 8, 2004. If you anticipate that you will be submitting comments, but find it difficult to do so within the period of time allowed by this notice, you should advise the contacts listed below as soon as possible.

ADDRESSES: Kristy L. LaLonde, Office of Management and Budget Desk Officer, Room 10234 NEOB, 725 17th Street, NW., Washington, DC 20503, (202) 395-3087, via the Internet to Kristy_L. LaLonde@omb.eop.gov, via fax at (202) 395-5167; or Les Smith, Federal Communications Commission, 445 12th Street, Room 1-A804, Washington, DC 20554, (202) 418-0217 or Leslie.Smith@fcc.gov.

Paperwork Reduction

OMB Control No: 3060-1033.

Expiration Date: July 31, 2007.

Title: Multi-channel Video Program Distributor EEO Program Annual Report, FCC Form 396-C.

Form No: 396-C.

Respondents: Operators of cable/television units.

Number of Respondents: 2,200.

Total Annual Burden: 3,188 hours.

Total Annual Cost: 0.

Terms of Clearance: None.

Federal Communications Commission.
Marlene H. Dortch,
Secretary.

[FR Doc. 04-18144 Filed 8-6-04; 8:45 am]

BILLING CODE 6712-01-P